DEPARTMENT OF STATE

[Delegation of Authority No. 514]

Delegation of Management Authorities of the Secretary Of State

By virtue of the authority vested in the Secretary of State by the laws of the United States, including 22 U.S.C. 2651a, I hereby delegate to the Under Secretary of State for Management, to the extent authorized by law:

1. All management-related functions and authorities now vested or which in the future may be vested in the Secretary of State or in the head of the Department of State, as well as functions and authorities that arise out of, relate to, or concern the activities of, or the laws administered by or relating to, the bureaus, offices, or other organizational units over which the Under Secretary has supervision;

2. The authority of the Secretary of State to approve submission of one-time or recurring reports to the Congress. However, this delegation shall not be construed to authorize the Under Secretary to make waivers, certifications, determinations, findings, or other such statutorily required substantive actions that may be called for in connection with the submission of a report. The Under Secretary shall be responsible for referring to the Secretary, the Deputy Secretary, or the Deputy Secretary for Management and Resources any matter on which action would appropriately be taken by such official.

Except for the authority to submit Congressional reports, functions delegated herein may be re-delegated, to the extent authorized by law. The Secretary of State, Deputy Secretary, or Deputy Secretary for Management and Resources may at any time exercise any function delegation herein.

This delegation does not repeal or affect any delegation of authority currently in effect except Delegation of Authority 462, dated January 9, 2019, which is hereby rescinded.

This delegation of authority shall be published in the Federal Register.

Dated: April 20, 2021.
Antony J. Blinken,
Secretary of State.

[FR Doc. 2021-09258 Filed 4-30-21; 8:45 am]

BILLING CODE 4710-10-P